DEPARTMENT OF TRANSPORTATION

Pipeline and Hazardous Materials Safety Administration

[Docket: RSPA-98-4957]

Request for Public Comments and Office of Management and Budget (OMB) Approval of an Existing Information Collection (2137-0594)

AGENCY: Office of Pipeline Safety, Pipeline and Hazardous Materials Safety Administration, Department of Transportation (DOT).

SUMMARY: In compliance with the Paperwork Reduction Act of 1995 (44 U.S.C. 3501 et seq.), this notice announces that the Information Collection Request (ICR) described below has been forwarded to the Office of Management and Budget (OMB) for extension of currently approved collection. The ICR describes the nature of the information collection and the expected burden. The Federal Register Notice with a 60-day comment period soliciting comments on the following collection of information was published on May 23, 2005, [FR 70, page 29553].

DATES: Comments must be submitted on or before September 7, 2005.

ADDRESSES: Send comments to the Office of Information and Regulatory Affairs, Office of Management and Budget, 725-17th Street, NW., Washington, DC 20503, Attention DOT Desk Officer.

FOR FURTHER INFORMATION CONTACT: Florence Hamn, (202) 366-3015, by e-mail at Florence.Hamn@dot.gov.

SUPPLEMENTARY INFORMATION: Comments are invited on whether the proposed collection of information is necessary for the proper performance of the functions of the Department, including whether the information will have practical utility; the accuracy of the Department's estimate of the burden of the proposed information collections; ways to enhance the quality, utility, and clarity of the information to be collected; and ways to minimize the burden of the collection of information on respondents, in including the use of automated collection techniques of other forms of information technology.

Standards in 49 CFR 192.16, “Customer notification,” require operators of gas service lines who do not maintain buried customer piping between service lines and building walls or gas utilization equipment to send written notices to their customers of the proper maintenance of this piping and of the potential hazards of not properly maintaining the piping. Operators also have to keep records that include a copy of the notice currently in use and evidence that notices were sent to customers, as required, within the previous 3 years. This rule was issued in response to the statutory mandate in 49 U.S.C. 60113.

This information collection supports the DOT strategic goal of safety by reducing the number of fatalities, the number of injuries, and the amount of property damage from pipeline incidents.

As used in this notice, ‘information collection’ includes all work related to preparing and disseminating information related to this recordkeeping requirement including completing paperwork, gathering information and conducting telephone calls.

Type of Information Collection Request: Renewal of Existing Collection.

Title of Information Collection: Customer-owned Service Lines.

OMB Approval Number: 2137-0594.

Frequency: A notice is sent once to each customer at a particular location.

Use: This collection is used by gas customers to learn of the need to maintain their buried piping and by OPS and State authorities to review operator compliance.

Estimated Number of Respondents: 1,540.

Estimated annual burden hour: 9,167.

Issued in Washington, DC on July 29, 2005.
Florence L. Hamn,
Director, Office of Regulations.

[FR Doc. 05-15559 Filed 8-5-05; 8:45 am]

BILLING CODE 4910-60-P